FEDERAL MARITIME COMMISSION

[FMC-2024-0016]

Agency Information Collection Activities: Submission for OMB Review; Comment Requested; Passenger Vessel Operators

AGENCY: Federal Maritime Commission.

ACTION: Notice and request for comment.

SUMMARY: The Federal Maritime Commission (Commission) is giving public notice that the agency has submitted to the Office of Management and Budget (OMB) for approval a revision of an existing information collection related to Passenger Vessel Operators (PVOs). The public is invited to comment on the information collection pursuant to the Paperwork Reduction Act of 1995.

DATES: Written comments must be submitted on or before July 16, 2025.

ADDRESSES: Comments should be submitted to: (1) the Commission through the Federal eRulemaking Portal at www.regulations.gov (Docket FMC-2024-0016) and (2) also sent to the Office of Management and Budget's Office of Information and Regulatory Affairs through the portal at https://www.reginfo.gov/public/do/PRAMain. Find this particular information collection at Reginfo.gov by selecting “Currently under Review—Open for Public Comments” or by using the search function. If your material cannot be submitted to the addresses above, contact the person in the FOR FURTHER INFORMATION CONTACT section of this document for alternate instructions.

FOR FURTHER INFORMATION CONTACT: Robyn K. Smith, (202) 523-5818, PVO@fmc.gov.

SUPPLEMENTARY INFORMATION: The Commission invites the general public and other Federal agencies to comment on any aspect of the continuing information collection listed in this notice, as required by the Paperwork Reduction Act of 1995 (44 U.S.C. 3501 et seq.). We are particularly interested in receiving comments on: (1) The necessity and utility of the proposed information collection for the proper performance of the agency's functions; (2) the accuracy of the estimated burden; (3) ways to enhance the quality, utility, and clarity of the information to be collected; and (4) the use of automated collection techniques or other forms of information technology to minimize the information collection burden.

Comments submitted in response to this notice will be included or summarized in our request for Office of Management and Budget (OMB) approval of the relevant information collection. All comments are part of the public record and subject to disclosure. Please do not include any confidential or inappropriate material in your comments.

Previous Request for Comments

On October 30, 2024, the Commission published a notice and request for comment in the Federal Register (89 FR 86338) regarding the agency's request for approval from OMB for information collections as required by the Paperwork Reduction Act of 1995. During the 60-day period, the Commission received no comments.

Information Collection Open for Comment

Title: 46 CFR part 540—Application for Certificate of Financial Responsibility/Form FMC-131.

OMB Approval Number: 3072-0012 (Expires July 31, 2025).

Abstract: Sections 2 and 3 of Public Law 89-777 (46 U.S.C. 44101-44106) require owners, charterers, or operators of passenger vessels with 50 or more passenger berths or stateroom accommodations and embarking passengers at United States ports and territories to establish and maintain evidence of their financial responsibility to meet liability incurred for death or injury to passengers and other persons, and to indemnify passengers in the event of nonperformance of transportation. The Commission's regulations at 46 CFR part 540 implement Public Law 89-777 and specify financial responsibility coverage requirements for such owners, charterers, or operators.

Current Actions: There are no changes to this information collection, and it is being submitted for extension purposes only.

Type of Review: There are no changes to this information collection, and it is being submitted for extension purposes only.

Needs and Uses: The information will be used by Commission staff to ensure that passenger vessel owners, charterers, and operators have evidenced financial responsibility to indemnify passengers and others in the event of nonperformance or casualty.

Frequency: This information is collected when applicants apply for a certificate or when existing certificate holders change any information in their application forms.

Type of Respondents: Respondents are owners, charterers, or operators of passenger vessels with 50 or more passenger berths that embark passengers from U.S. ports or territories.

Number of Annual Respondents: There are approximately 52 PVOs registered with the Commission, as of May 2025, that are required to demonstrate financial responsibility under the regulations.

Estimated Time per Response: The time per response ranges from 0.5 to 8 hours for reporting and recordkeeping requirements contained in the regulations (depending on the type of financial responsibility demonstrated, a PVO may be required to submit information multiple times per year), and 8 hours for completing Application Form FMC-131.

Total Annual Burden: The Commission estimates the total industry burden at 1,251 hours per year.

David Eng,
Secretary.

[FR Doc. 2025-11027 Filed 6-13-25; 8:45 am]

BILLING CODE 6730-02-P